DEPARTMENT OF ENERGY

Federal Energy Regulatory Commission

Combined Notice of Filings #2

Take notice that the Commission received the following electric rate filings:

Docket Numbers: ER10-1556-008.

Applicants: Longview Power.

Description: Updated Market Power Analysis for the Northeast Region of Longview Power, LLC.

Filed Date: 6/30/17.

Accession Number: 20170630-5461.

Comments Due: 5 p.m. ET 8/29/17.

Docket Numbers: ER10-2042-023; ER10-1862-017; ER10-1893-017; ER10-1934-017; ER10-1938-018; ER10-1942-015; ER10-2029-007; ER10-2036-006; ER10-2040-005; ER10-2041-005; ER10-2043-005; ER10-2044-005; ER10-2051-005; ER10-2985 021; ER10-3049-022; ER10-3051-022; ER11-4369-002; ER15-748-001; ER16-2218-002; ER17-696-003.

Applicants: Calpine Energy Services, L.P., Calpine Bethlehem, LLC, Calpine Construction Finance Company, L.P, Calpine Energy Solutions, LLC, Calpine Mid-Atlantic Generation, LLC, Calpine Mid-Atlantic Marketing, LLC, Calpine Mid Merit, LLC, Calpine New Jersey Generation, LLC, Calpine PowerAmerica—CA, LLC, Calpine Vineland Solar, LLC, CES Marketing IX, LLC, CES Marketing X, LLC, Champion Energy Marketing LLC, Champion Energy, LLC, Garrison Energy Center LLC, North American Power and Gas, LLC, North American Power Business, LLC, Power Contract Financing, L.L.C., Zion Energy LLC, Champion Energy Services, LLC.

Description: Notification of Change in Status of the Calpine PJM MBR Sellers.

Filed Date: 6/30/17.

Accession Number: 20170630-5454.

Comments Due: 5 p.m. ET 7/21/17.

Docket Numbers: ER10-2131-017.

Applicants: Grand Ridge Energy LLC.

Description: Triennial Report of Grand Ridge Energy LLC.

Filed Date: 6/30/17.

Accession Number: 20170630-5451.

Comments Due: 5 p.m. ET 8/29/17.

Docket Numbers: ER10-2133-017.

Applicants: Sheldon Energy LLC.

Description: Triennial Report of Sheldon Energy LLC.

Filed Date: 6/30/17.

Accession Number: 20170630-5456.

Comments Due: 5 p.m. ET 8/29/17.

Docket Numbers: ER10-2137-017; ER14-2799-009.

Applicants: Beech Ridge Energy LLC, Beech Ridge Energy Storage LLC.

Description: Triennial Report of Beech Ridge Energy LLC, et al.

Filed Date: 6/30/17.

Accession Number: 20170630-5448.

Comments Due: 5 p.m. ET 8/29/17.

Docket Numbers: ER10-2138-017; ER10-2139-017.

Applicants: Grand Ridge Energy II LLC, Grand Ridge Energy III LLC.

Description: Triennial Report of Grand Ridge Energy II LLC, et al.

Filed Date: 6/30/17.

Accession Number: 20170630-5452.

Comments Due: 5 p.m. ET 8/29/17.

Docket Numbers: ER10-3099-018.

Applicants: RC Cape May Holdings, LLC.

Description: Triennial Market-Based Rate Update Filing for the Northeast Region of RC Cape May Holdings, LLC.

Filed Date: 6/30/17.

Accession Number: 20170630-5457.

Comments Due: 5 p.m. ET 8/29/17.

Docket Numbers: ER11-3460-010; ER10-1533-015; ER10-2374-014; ER12-1301-008; ER12-670-010; ER12-674-010.

Applicants: Bayonne Energy Center, LLC, Macquarie Energy LLC, Rhode Island Engine Genco, LLC, Rhode Island LFG Genco, LLC, Zone J Tolling Co., LLC, Puget Sound, Energy, Inc.

Description: Updated Market Power Analysis for the Northeast Region of Bayonne Energy Center, LLC, et al.

Filed Date: 6/30/17.

Accession Number: 20170630-5463.

Comments Due: 5 p.m. ET 8/29/17.

Docket Numbers: ER11-3872-018.

Applicants: Stony Creek Energy LLC.

Description: Triennial Report of Stony Creek Energy LLC.

Filed Date: 6/30/17.

Accession Number: 20170630-5459.

Comments Due: 5 p.m. ET 8/29/17.

Docket Numbers: ER12-1436-012; ER10-2329-009; ER10-2740-011; ER10-2742-010; ER12-1260-011; ER13-1793-009; ER14-152-007.

Applicants: Eagle Point Power Generation LLC, Elgin Energy Center, LLC, Hazle Spindle, LLC, Rocky Road Power, LLC, Stephentown Spindle, LLC, Tilton Energy LLC, Vineland Energy LLC.

Description: Triennial Market-Based Rate Update Filing for the Northeast Region of the Rockland Sellers.

Filed Date: 6/30/17.

Accession Number: 20170630-5464.

Comments Due: 5 p.m. ET 8/29/17.

Docket Numbers: ER13-343-008; ER13-342-012; ER16-700-001; ER16-701-001.

Applicants: CPV Shore, LLC, CPV Maryland, LLC, CPV Towantic, LLC, CPV Valley, LLC.

Description: Market Power Update of CPV Maryland, LLC, et al.

Filed Date: 6/30/17.

Accession Number: 20170630-5465.

Comments Due: 5 p.m. ET 8/29/17.

Docket Numbers: ER14-2798-009.

Applicants: Beech Ridge Energy II LLC.

Description: Triennial Report of Beech Ridge Energy II LLC.

Filed Date: 6/30/17.

Accession Number: 20170630-5446.

Comments Due: 5 p.m. ET 8/29/17.

Docket Numbers: ER15-103-006.

Applicants: Invenergy Nelson LLC.

Description: Triennial Report of Invenergy Nelso LLC.

Filed Date: 6/30/17.

Accession Number: 20170630-5455.

Comments Due: 5 p.m. ET 8/29/17.

Docket Numbers: ER15-1841-002; ER15-2742-002; ER16-2643-001.

Applicants: Panda Stonewall LLC, Panda Patriot LLC, Panda Liberty LLC.

Description: Updated Market Power Analysis for the Northeast Region of the Panda MBR Sellers.

Filed Date: 6/30/17.

Accession Number: 20170630-5447.

Comments Due: 5 p.m. ET 8/29/17.

Docket Numbers: ER17-256-002; ER17-242-002; ER17-243-002; ER17-245-002; ER17-652-002.

Applicants: Darby Power, LLC, Gavin Power, LLC, Lawrenceburg Power, LLC, Lightstone Marketing LLC, Waterford Power, LLC.

Description: Updated Market Power Analysis of the Lightstone Northeast MBR Sellers.

Filed Date: 6/30/17.

Accession Number: 20170630-5460.

Comments Due: 5 p.m. ET 8/29/17.

Docket Numbers: ER17-2046-000.

Applicants: Sempra Gas & Power Marketing, LLC, San Diego Gas & Electric Company.

Description: Joint Application of San Diego Gas & Electric Company, et al. for Approval of Affiliate Transaction Pursuant to Section 205 of the Federal Power Act.

Filed Date: 6/30/17.

Accession Number: 20170630-5449.

Comments Due: 5 p.m. ET 7/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 5, 2017.
Kimberly D. Bose,
Secretary.

[FR Doc. 2017-14475 Filed 7-10-17; 8:45 am]

BILLING CODE 6717-01-P